DEPARTMENT OF EDUCATION

Applications for New Awards; Fund for the Improvement of Postsecondary Education—Special Projects (FIPSE—SP)

AGENCY: Office of Postsecondary Education, Department of Education.

ACTION: Notice.

SUMMARY: The Department of Education (Department) is issuing a notice inviting applications for new awards for fiscal year (FY) 2025 for the Fund for the Improvement of Postsecondary Education Special Projects, Assistance Listing Number 84.116J. This notice relates to the approved information collection under OMB control number 1894-0006.

DATES:

Applications Available: November 12, 2025.

Deadline for Transmittal of Applications: December 3, 2025.

Deadline for Intergovernmental Review: December 12, 2025.

ADDRESSES: For the addresses for obtaining and submitting an application, please refer to our Common Instructions for Applicants to Department of Education Discretionary Grant Programs, published in the Federal Register on August 29, 2025 (90 FR 42234), and available at https://www.federalregister.gov/documents/2025/08/29/2025-16571/common-instructions-and-information-for-applicants-to-department-of-education-discretionary-grant.

FOR FURTHER INFORMATION CONTACT: Stacey Slijepcevic, U.S. Department of Education, 400 Maryland Avenue SW. Telephone: (202) 453-6150. Email: Stacey.Slijepcevic@ed.gov.

If you are deaf, hard of hearing, or have a speech disability and wish to access telecommunications relay services, please dial 7-1-1.

SUPPLEMENTARY INFORMATION:

Full Text of Announcement

I. Funding Opportunity Description

Purpose of Program: The FIPSE Special Projects Program provides grants to institutions of higher education (IHEs), combinations of such institutions, and other public and private nonprofit institutions and agencies, as the Secretary deems necessary, to support innovative projects concerning one or more areas of national need identified by the Secretary. This competition focuses on supporting four areas of national need—(1) advancing the understanding of and use of Artificial Intelligence (AI) technology in postsecondary education, (2) promoting civil discourse on college and university campuses, (3) promoting accreditation reform, and (4) supporting capacity-building for high-quality short-term programs.

In order to support these four crucial needs, this competition includes seven absolute priorities under which applicants can apply: two priorities dedicated to advancing the understanding and use of AI in postsecondary education (Absolute Priorities 1 and 2), one priority dedicated to promoting civil discourse on college and university campuses (Absolute Priority 3), two priorities within promoting accreditation reform (Absolute Priorities 4 and 5), and two priorities for capacity-building for high-quality short-term programs (Absolute Priorities 6 and 7). The Department intends to award $50 million to advance AI in Education, $60 million to promote civil discourse on college and university campuses, $7 million to support accreditation reform, and $50 million for high-quality short-term programs. The Department may adjust these estimates based on interest and quality of applications.

Background: Section 744 of the Higher Education Act of 1965, as amended (HEA), authorizes the Secretary to make grants to institutions of higher education, or consortia thereof, and such other public agencies and nonprofit organizations as the Secretary deems necessary for innovative projects concerning one or more areas of particular national need identified by the Secretary. Section 744(c) identifies a list of minimum areas of national need, and this is the first competition under section 744(c)(2) as revised by Higher Education Opportunity Act of 2008 (HEOA). In order to ensure timely grant awards, the Secretary has decided to forgo public comment on the priorities in accordance with section 437(d)(1) of the General Education Provisions Act (GEPA).

Advancing the Understanding and Use of AI in Postsecondary Education: President Trump's Executive Order Removing Barriers to American Leadership in Artificial Intelligence, Executive Order 14179 (Jan. 23, 2025), says “[w]ith the right Government policies, we can solidify our position as the global leader in AI and secure a brighter future for all Americans.” In July 2025, the Department took steps to support American Leadership in Artificial Intelligence by publishing the Proposed Priority and Definitions on Advancing Artificial Intelligence in Education (90 FR 34203). As noted in this Notice of Proposed Priority, “[AI] is rapidly reshaping the future of education, work, learning, and daily life. As AI becomes more integrated into the tools and systems that shape elementary, secondary, and postsecondary education, it is increasingly important for students to develop AI literacy. A strong foundation in AI literacy will help ensure students are prepared to navigate and contribute to a society where these technologies play a growing role in decision-making, communication, innovation, and career readiness.” In alignment with Executive Order 14179 and in recognition of the potential for AI to improve postsecondary teaching and learning, the Secretary has identified using artificial intelligence to support opportunities in postsecondary education as a particular area of national need. Additionally, President Trump's Executive Order Advancing Artificial Intelligence Education for American Youth, Executive Order 14277 (Apr. 23, 2025), highlights the role postsecondary education can play by better preparing future and current teachers to teach and use AI, noting that “[b]y establishing a strong framework that integrates early student exposure with comprehensive teacher training and other resources for workforce development, we can ensure that every American has the opportunity to learn about AI from the earliest stages of their educational journey through postsecondary education, fostering a culture of innovation and critical thinking that will solidify our Nation's leadership in the AI-driven future.”

Promoting Civil Discourse on College and University Campuses: Protesters have increasingly exercised disruptive tactics, including shouting down speakers (the heckler's veto) and blocking access to campus events, on our Nation's college and university campuses. Civil discourse at America's colleges and universities has been undermined by campus takeovers, violent riots, and even a recent high-profile political assassination. The core mission of our educational institutions—the pursuit of truth—requires that individuals be able to state their views freely and fully, without fear. It requires that students and faculty accept that people will inevitably disagree on controversial issues of the utmost importance and complexity. Pursuing truth requires the recognition that students and faculty benefit from engaging with those who disagree with us with honesty, dignity, and respect. This priority supports projects that are designed to promote civil discourse on college and university campuses through activities such as seminars, speaker series, conferences, debates, workshop training events, visiting professorships and other focused learning opportunities that include and promote a range of views and embrace dialogue and understanding. For students to have access to the best learning opportunities, learning environments must welcome and engage viewpoint diversity in a manner that values thoughtful debate and freedom of speech. This funding will provide an opportunity to support the cultivation of such environments on college and university campuses nationwide. The competitive preference priorities within this Absolute Priority are based on the Department's position that guidance and coordination from independent and interdisciplinary academic units dedicated to promoting civic thought have the potential to increase the effectiveness of these initiatives.

Promoting Accreditation Reform: Institutions of higher education must be accredited to receive title IV funding under the HEA, such as federal student loans and Pell Grants. The current accreditation process, both institutional and programmatic/specialized, is unnecessarily costly for colleges and universities, typically requiring tens of thousands of personnel hours and hundreds of thousands of dollars each year, expenses that are ultimately borne by students. For example, two universities classified as having very high research activity reported FY 2024 accreditation compliance costs of $12 million and $27 million, respectively.¹

¹ Vanderbilt University & Washington University in St. Louis, (2025). “Easing the Burden: A Framework for Federal Regulatory Reform in Higher Education.” White Paper. https://wustl.app.box.com/s/4rdzgs0lecy3tmfdedcx48q1jqd62poh.

In addition to being costly and burdensome, the accreditation process in many cases does not improve institutional or program quality. Oftentimes, institutions are required to jump through an extensive set of bureaucratic hoops that have little to do with improving student outcomes or educational quality.² Many institutions and members of the public view the accreditation process as primarily a compliance exercise, rather than one focused on enhancing student outcomes.

² Woolston, P.J., (2012). The costs of institutional accreditation: A study of direct and indirect costs. Doctoral Dissertation. https://www.proquest.com/docview/1152182950?fromopenview=true&pq-origsite=gscholar&sourcetype=Dissertations%20&%20Theses.

² Burke, L., Kissel, A. Alacbay, A., & Beltramini, K., (2023). It's Time for Congress to Dismantle the Higher Education Accreditation Cartel. Washington, DC: The Heritage Foundation. https://www.heritage.org/education/report/its-time-congress-dismantle-the-higher-education-accreditation-cartel.

² Senate HELP Committee, (2015). Higher Education Accreditation Concepts and Proposals. https://www.help.senate.gov/imo/media/Accreditation.pdf.

Although institutions are permitted to change their accrediting agency under 34 CFR 600.11, the substantial financial burden, logistical hurdles, and heightened scrutiny involved often discourage them from do so, even when a different accreditor may better align with the institution's needs.³ The cost of accreditation itself is significant, encompassing staffing costs (administrator and faculty salaries and benefits), document preparation costs (professional service fees, printing, and mailing), compliance costs (meeting accreditation standards), site visits (travel, lodging, and related expenses), and direct accreditation fees (membership charges). Changing accrediting agencies often entails maintaining dual accreditation expenses for a considerable period, as institutions generally cannot allow accreditation to lapse without risking critical benefits, including eligibility for Federal financial aid and professional licensure pathways.

³ In May 2025, the Department issued a Dear Colleague Letter eliminating unnecessary barriers for institutions seeking to change their accreditor. https://fsapartners.ed.gov/knowledge-center/library/dear-colleague-letters/2025-04-30/changes-approval-process-changing-accrediting-agencies.

States and nonprofit organizations also incur substantial costs in launching new, separate and independent accreditors. These burdens inhibit new accreditors from entering the marketplace efficiently. Recent reporting suggests that the ongoing work in North Carolina and Florida to establish a new accrediting agency has been a costly enterprise, which could deter other entities from launching similar reform initiatives.⁴ A lack of accreditor options hampers innovation in the higher education marketplace that could improve student outcomes, increase return on investment to families and taxpayers, and improve institutional accountability.

⁴ Moody, J., (2023). Florida's Accreditation Shuffle Begins. InsideHigherEd. https://www.insidehighered.com/news/governance/accreditation/2023/08/30/flas-accreditation-shuffle-begins-one-college-gets-us.

⁴ Gretzinger, E., (2025). How UNC Led a First-of-Its-Kind Plan to Shake Up College Accreditation. The Chronicle of Higher Education. https://www.chronicle.com/article/how-unc-led-a-first-of-its-kind-plan-to-shake-up-college-accreditation.

Collectively, these enumerated challenges make it difficult for institutions to change accreditors, either because the costs are prohibitive or there is a lack of alternatives. This funding opportunity will support institutions seeking to change accreditors, as well as emerging organizations working to become recognized accrediting agencies.

Capacity-Building for High-Quality Short-Term Programs: Not all workers need a traditional college degree to succeed in today's economy. Rather, many individuals are best served by high-value, short-term postsecondary programs closely aligned to workforce demand. These programs—which include micro-credentials, and workforce certificates—can quickly provide individuals with the skillsets they need to pursue new and expanded career opportunities or advance through a Registered Apprenticeship program.

However, short-term programs can be costly for colleges to create and administer, particularly given the need to codesign short-term postsecondary programs with employers. These costs may prevent higher education institutions from offering, creating, or expanding the size of existing short-term programs. To address these issues, this competitive grant program will provide funding to institutions of higher education to expand their capacity to offer high-value, short-term postsecondary programs.

In July 2025, the President's One Big Beautiful Bill Act, Public Law 119-21, established Workforce Pell Grants, a new program to help students pay for high-quality, short-term programs. For the award year beginning on July 1, 2026, eligible students enrolled in accredited programs at accredited postsecondary institutions that are a minimum of 8 weeks but less than 15 weeks; that are aligned to high-skill, high-wage, or in-demand industry sectors or occupations; that are portable and articulable to credit to support stackability and have strong completion rates, job placement rates, and earnings outcomes will receive Federal title IV grant funding. The Workforce Pell Grants program is designed to help support students gain immediate entry into the workforce. Yet, despite this new funding stream, some students may not be able to access high-quality, short-term programs that qualify for Workforce Pell Grants because of a lack of program supply. Colleges and universities, especially those with limited resources, may struggle to offer high-quality, short-term programs at the scale that students demand, and even when they do, strict class-size caps can restrict enrollment. Developing and expanding Workforce Pell-eligible high-quality, short-term programs can be costly for institutions, as it often requires hiring additional faculty and staff as well and investing in machinery, technology, production supplies, and equipment. These costs are especially high in advanced manufacturing, healthcare, and engineering fields, where programs usually require expensive equipment that are not easily scalable. Additionally, institutions often dedicate time and resources to develop and maintain close partnerships with employers and industry organizations in order to ensure the programs are aligned with the hiring requirements of businesses and keep pace with the evolving skill demands of industry. As a result, many students who want to enroll in a short-term program may not have a nearby institution offering an eligible option.

To address these challenges, this funding opportunity will allow institutions to develop and expand high-quality, short-term programs. These funds can be utilized on activities that are directly related to developing or modifying high-quality, short-term programs that meet the requirements for Workforce Pell Grants outlined in the One Big Beautiful Bill Act, as well as building capacity in existing short-term programs. Projects must be designed and executed in close collaboration with employers, to ensure that the resulting programs are responsive to industry demand.

Priorities: This notice contains seven absolute priorities across the four areas of national need established by the Secretary within this notice and two competitive preference priorities, in accordance with 34 CFR 75.105(b)(2)(vi). We are establishing these priorities for the fiscal year 2025 grant competition and any subsequent year in which we make awards from the list of unfunded applications from this competition, in accordance with section 437(d)(1) of GEPA, 20 U.S.C. 1232(d)(1).

Absolute Priorities: For FY 2025 and any subsequent year in which we make awards from the list of unfunded applications from this competition, these priorities are absolute priorities. Under 34 CFR 75.105(c)(3), we consider only applications that meet one of these priorities.

These priorities are:

Absolute Priority 1: Advancing Artificial Intelligence to Improve Educational Outcomes of Postsecondary Students.

Priority: Projects or proposals to improve academic instruction and student learning, including efforts designed to assess the learning gains made by postsecondary students (section 744(c)(2)) of the HEA), through one or more of the following:

(a) Supporting the integration of AI literacy skills and concepts into teaching and learning practices to improve educational outcomes for students, including instruction about how to use AI responsibly, and how to detect AI generated disinformation or misinformation online; and

(b) Partnering with State Educational Agencies (SEAs) or Local Educational Agencies (LEAs) to do one or more of the following:

(i) use AI technology to provide high-quality instructional resources, high-impact tutoring, and college and career pathway exploration, advising, and navigation to improve educational outcomes.

(ii) integrate AI-driven tools into classrooms to personalize learning, improve student outcomes, and support differentiated instruction. This integration may include, but is not limited to, adaptive learning technologies, virtual teaching assistants, tutoring, and data analytics tools to support student progress.

(iii) utilize AI in the classroom and/or for school operation efficiency, including but not limited to: improving teacher training and evaluation, reducing time-intensive administrative tasks, or improving instruction or services for students with disabilities.

Absolute Priority 2: Ensuring Future Educators and Students Have Foundational Exposure to AI and Computer Science.

Priority: Projects or proposals to leverage AI to improve teacher preparation by doing one or more of the following:

(a) Deliver AI and computer science credentials in rural communities;

(b) Embed AI and computer science into an institution of higher education's general preservice or in-service teacher professional development or teacher preparation programs;

(c) Provide additional support for teacher preparation programs that are preparing future computer science educators in K-12 education;

(d) Expand offerings of AI and computer science courses as part of an institution of higher education's general education and/or core curriculum;

(e) Provide resources and support for the use of AI in teacher preparation programs;

(f) Partner with SEAs and/or LEAs to provide resources to K-12 students in foundational computer science and AI literacy, including through professional development for educators; and

(g) Partner with SEAs and/or LEAs to encourage the provision of dual-enrollment course opportunities so that students can earn postsecondary credentials and industry-recognized credentials in AI coursework concurrent with their high school education.

Absolute Priority 3: Promoting Civil Discourse on College and University Campuses.

Priority: Projects that are designed to promote civil discourse on college and university campuses through activities such as seminars, speaker series, conferences, debates, workshops training events, and other focused learning opportunities that include a range of views and embrace dialogue and understanding. These projects may include visiting faculty specifically supporting the development and delivery of these activities and contributing to the viewpoint diversity of the broader campus intellectual environment.

Competitive Preference Priorities: Within this absolute priority, we give competitive preference to applications that address the following priorities. Under 34 CFR 75.105(c)(2)(i), we award an additional ten points to an application that meets each of these priorities.

Competitive Preference Priority 1: Civic Institutes at Institutions of Higher Education. (0 or 10 points).

Priority: Projects implemented by, or in partnership with, institutions of higher education that have established independent academic units dedicated to civic thought, constitutional studies, American history, and economic liberty. These institutes should demonstrate a sustained commitment to robust civil discourse, the liberal arts, and the study of American history and politics through primary documents.

Competitive Preference Priority 2: Non-IHE Nonprofit Organizations That Educate Students to Promote Freedom and Engage in Civil Discourse. (0 or 10 points).

Priority: Projects implemented by, or in partnership with, private nonprofit organizations that do not meet the HEA definition of an institution of higher education and that educate students to promote freedom and engage in civil discourse. These entities must demonstrate experience working with higher education institutions on matters of civil discourse.

Absolute Priority 4: Supporting Institutions in Changing Accrediting Agencies.

Priority: Activities that directly support college and university efforts to change their current accrediting agency. These activities may include, but are not limited to, staffing costs necessary to support a change in accreditors, document preparation costs, site-visit costs, and direct accreditation fees (limited to the initial term of accreditation up to 5 years).

Absolute Priority 5: Supporting the Creation of New Accrediting Agencies.

Priority: Projects that support the development and launch of new accrediting agencies seeking, or intending to seek, recognition from the Department under 20 U.S.C. 1099b. Eligible activities may include convenings, development of accreditation standards and review processes, stakeholder and expert consultations, meeting and travel costs, technology and data system development, personnel costs, administrative expenses, and other costs directly related to establishing and operating a recognized accrediting agency.

Absolute Priority 6: Creation of New High-Quality Short-Term Programs.

Priority: Activities that directly support the development of new high-quality, short-term programs at institutions of higher education, including engaging employers, developing talent marketplaces, and integrating work-based learning components into short-term postsecondary programs. High-quality, short-term programs are defined as programs that meet the eligibility requirements of the Workforce Pell Grants program in Section 83002(b) of the One Big Beautiful Bill Act, including program length requirements and alignment with high-skill, high-wage, or in-demand industry sectors or occupations, as determined by the Governor in the State in which the institution is located. This funding opportunity may be used to cover institutional costs associated with hiring program faculty and staff; purchasing equipment, machinery, production supplies and technology; coordinating with employers, State Workforce Development Boards, and other stakeholders, including convenings, meetings, and travel costs; improving classrooms, laboratories, and other instructional facilities; developing or enhancing partnerships with employers to facilitate industry alignment; improving data collection and reporting capabilities to support Workforce Pell eligibility determinations; and meeting administrative expenses related to the design and development of new programs, including expenses related to data collection and validation.

Activities must be designed and executed in close collaboration with employers, to ensure that the resulting programs are responsive to industry demand.

Absolute Priority 7: Expansion of Existing High-Quality Short-Term Programs.

Priority: Activities that directly support the expansion of existing high-quality, short-term programs, including reforms to existing programs to meet Workforce Pell Grants eligibility requirements in the One Big Beautiful Bill Act. Such activities should also include engaging employers, developing talent marketplaces, and integrating work-based learning components into short-term postsecondary programs. This funding opportunity may be used to cover institutional costs associated with hiring additional faculty and staff to increase program capacity; purchasing additional equipment, machinery, production supplies, and technology; enhancing partnerships with employers to facilitate industry alignment; improving data collection and reporting capabilities to support Workforce Pell eligibility determinations; expanding the frequency of new student cohorts; or programmatic reforms needed to meet program requirements under the One Big Beautiful Bill Act.

Waiver of Proposed Rulemaking: Under the Administrative Procedure Act (5 U.S.C. 553), the Department generally offers interested parties the opportunity to comment on proposed priorities. Section 437(d)(1) of GEPA, however, allows the Secretary to exempt from rulemaking requirements regulations governing the first grant competition under a new or substantially revised program authority.

This is the first grant competition for this specific program (FIPSE Special Projects) under section 744(c)(2) of the Higher Education Act of 1965, as amended by the HEOA and, therefore, this competition qualifies for this exemption. In order to ensure timely grant awards, the Secretary has decided to forgo public comment on the priorities in accordance with section 437(d)(1) of GEPA. These priorities will apply to grants awarded under this competition in FY 2025 and any subsequent year in which we make awards from the list of unfunded applications from this competition.

Definitions: The terms “baseline,” “continuous improvement,” “evaluation,” “evidence-building,” “nonprofit,” “performance measure,” “performance target,” “quality data,” “relevant outcome” are defined in 34 CFR 77.1. Institution of higher education has the meaning as defined in section 101 of the HEA. “Artificial intelligence” or “AI” has the meaning set forth in 15 U.S.C. 9401(3). “Work-based learning” has the meaning set forth in 20 U.S.C. 2302(55). In accordance with section 437(d)(1) of GEPA, we are establishing a definition for “Computer Science” and “Talent Marketplace.”

Artificial intelligence (AI) literacy means the technical knowledge, durable skills, and future ready attitudes required to thrive in a world influenced by AI. It enables learners to engage, create with, manage, and design AI, while critically evaluating its benefits, risks, and implications.

Baseline means the starting point from which performance is measured and targets are set.

Computer science means the study of computers and algorithmic processes, including their principles, their hardware and software designs, theories, computational thinking, coding, analytics, applications, machine learning, and Artificial Intelligence (AI). Computer science often includes computer programming or coding as a tool to create software, including applications, games, websites, and tools to manage or manipulate data; or development and management of computer hardware and the other electronics related to sharing, securing, and using digital information. In addition to coding, the expanding field of computer science emphasizes computational thinking and interdisciplinary problem-solving to equip students with the skills and abilities necessary to apply computation to the digital world. Computer science does not involve using computers for everyday tasks, such as browsing the internet or using tools like word processors, spreadsheets, or presentation software. Instead, it focuses on creating and developing technology, not just utilizing it.

Continuous improvement means using plans for collecting and analyzing data about a project component's implementation and outcomes (including the pace and extent to which project outcomes are being met) to inform necessary changes throughout the project. These plans may include strategies to gather ongoing feedback from participants and stakeholders on the implementation of the project component.

Evaluation means an assessment using systematic data collection and analysis of one or more programs, policies, practices, and organizations intended to assess their implementation, outcomes, effectiveness, or efficiency.

Evidence-building means a systematic plan for identifying and answering questions relevant to programs and policies through performance measurement, exploratory studies, or program evaluation.

In-demand Industry Sector or Occupation, as defined in section 3(23) of the Workforce Innovation and Opportunity Act (WIOA), means (i) an industry sector that has a substantial current or potential impact (including through jobs that lead to economic self-sufficiency and opportunities for advancement) on the State, regional, or local economy, as appropriate, and that contributes to the growth or stability of other supporting businesses, or the growth of other industry sectors; or (ii) an occupation that currently has or is projected to have a number of positions (including positions that lead to economic self-sufficiency and opportunities for advancement) in an industry sector so as to have a significant impact on the State, regional, or local economy, as appropriate.

Nonprofit, as applied to an agency, organization, or institution, means that it is owned and operated by one or more corporations or associations whose net earnings do not benefit, and cannot lawfully benefit, any private shareholder or entity.

Performance measure means any quantitative indicator, statistic, or metric used to gauge program or project performance.

Performance target means a level of performance that an applicant would seek to meet during the course of a project or as a result of a project.

Quality data encompasses utility, objectivity, and integrity of the information. “Utility” refers to how the data will be used, either for its intended use or other uses. “Objectivity” refers to data being accurate, complete, reliable, and unbiased. “Integrity” refers to the protection of data from being manipulated.

Relevant outcome means the student outcome(s) or other outcome(s) the key project component is designed to improve, consistent with the specific goals of the program.

Talent marketplace means a digital, interconnected system of technologies maintained by a State or State Workforce Agency, as defined at 29 U.S.C. 3225a(a)(8), that

(a) is publicly available;

(b) includes an integrated:

(i) Learning and Employment Record;

(ii) Credential Registry; and

(iii) Skill-Based Job Description generator;

(c) utilizes artificial intelligence to enable students and jobseekers, employers, and education and training providers to transform, transcribe, and transact earned learning assertions, job descriptions, and degree and non-degree credentials into discrete competency statements; and

(d) may be curated into interoperable individual records of achievement and learning and employment recommendations.

Work-based learning is used in accordance with 20 U.S.C. 2302(55), to mean sustained interactions with industry or community professionals in real workplace settings, to the extent practicable, or simulated environments at an educational institution that foster in-depth, firsthand engagement with the tasks required in a given career field, that are aligned to curriculum and instruction.

Program Authority: 20 U.S.C. 1138; 20 U.S.C. 1138c.

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $167,000,000.

Of this amount, we estimate allocating across the areas of national need and absolute priorities as follows:

• Advancing AI in Education (Absolute Priorities 1 and 2)—$50,000,000, including $25,000,000 under Absolute Priority 1 and $25,000,000 under Absolute Priority 2.

• Promoting Civil Discourse (Absolute Priority 3)—$60,000,000.

• Promoting Accreditation Reform (Absolute Priorities 4 and 5)—$7,000,000, including $3,500,000 under Absolute Priority 4 and $3,500,000 under Absolute Priority 5.

• Capacity-building for high-quality, short-term programs (Absolute Priorities 6 and 7)—$50,000,000, including $25,000,000 under Absolute Priority 6 and $25,000,000 under Absolute Priority 7.

Contingent upon the availability of funds and the quality of applications, we may make additional awards in subsequent years from the list of unfunded applications from this competition.

Estimated Range of Awards (for the 48-month project period):

Absolute Priorities 1 and 2: $1,000,000-$4,000,000

Absolute Priority 3: $1,000,000-$4,000,000

Absolute Priorities 4 and 5: $600,000-$1,000,000

Absolute Priorities 6 and 7: $1,000,000-$4,000,000

Estimated Average Size of Awards (for the 48-month project period):

Absolute Priorities 1 and 2: $2,000,000

Absolute Priority 3: $2,000,000

Absolute Priorities 4 and 5: $800,000

Absolute Priorities 6 and 7: $2,000,000

Maximum Award: We will not make an award exceeding the following amounts for each of these priorities for the entire project period of 48 months:

Absolute Priorities 1 and 2: $4,000,000

Absolute Priority 3: $4,000,000

Absolute Priorities 4 and 5: $1,000,000

Absolute Priorities 6 and 7: $4,000,000

Estimated Number of Awards:

Absolute Priorities 1 and 2: 25

Absolute Priority 3: 30

Absolute Priorities 4 and 5: 9

Absolute Priorities 6 and 7: 25.

Note: The Department is not bound by any estimates in this notice.

Project Period: Up to 48 months.

III. Eligibility Information

1. Eligible Applicants: Institutions of higher education (as defined in section 101 of the HEA), consortia of such institutions, and other public and private nonprofit institutions and agencies including State higher education agencies as defined in 20 U.S.C. 1003(22). An eligible entity may submit only one (1) grant application under an area of national need as the lead applicant. An entity can be included as a partner in multiple applications.

Note: The eligible entity may apply to all four (4) areas of national need as the lead applicant but must submit a separate grant application for each area of national need.

Note: An applicant that is a nonprofit organization may, under 34 CFR 75.51, demonstrate its nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This program does not require cost sharing or matching.

b. Supplement-Not-Supplant: This program does not involve supplement-not-supplant funding requirements.

c. Indirect Cost Rate Information: This program uses the waiver authority of section 437(d)(1) of GEPA to limit a grantee's indirect cost reimbursement to 8 percent of a modified total direct cost base. We are establishing this indirect cost limit for the FY 2025 grant competition and any subsequent year in which we make awards from the list of unfunded applications from this competition in accordance with section 437(d)(1) of GEPA. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants to directly carry out project activities described in its application to the following types of entities: IHEs and public and private nonprofit institutions and agencies including State higher education agencies as defined in 20 U.S.C. 1003(22).

IV. Application and Submission Information

1. Application Submission Instructions: Applicants are required to follow the Common Instructions for Applicants to Department of Education Discretionary Grant Programs, published in the Federal Register on August 29, 2025 (90 FR 42234), and available at https://www.federalregister.gov/documents/2025/08/29/2025-16571/common-instructions-and-information-for-applicants-to-department-of-education-discretionary-grant, which contain requirements and information on how to submit an application.

2. Intergovernmental Review: This program is subject to Executive Order 12372 and the regulations in 34 CFR part 79. Information about Intergovernmental Review of Federal Programs under Executive Order 12372 is in the application package for this program. Please note that, under 34 CFR 79.8(a), we have shortened the standard 60-day intergovernmental review period in order to make awards by the end of the period of availability of the funds on December 31, 2025.

3. Funding Restrictions: We reference regulations outlining funding restrictions in the Applicable Regulations section of this notice.

4. Recommended Page Limit: The application narrative is where you, the applicant, address the selection criteria that reviewers use to evaluate your application. We recommend that you (1) limit the application narrative to no more than 35 pages (2) use the Standards outlined in the Common Instructions.

• Note: The Budget Information-Non-Construction Programs Form (ED 524) Sections A-C are not the same as the narrative response to the Budget section of the selection criteria.

5. Program Profile: Applicants must indicate in the abstract which area of national need the application addresses, how the proposed project meets the absolute priorities, and, if applicable, the competitive preference priorities. The abstract narrative should identify the partner entities the applicant will be working with, the target population (e.g., faculty, staff, students, etc.), the proposed activities to be conducted during the 4-year performance period, and the anticipated results.

V. Application Review Information

1. Selection Criteria: The selection criteria for this competition are from 34 CFR 75.210. Applicants should address each of the selection criteria separately for each proposed activity. The selection criteria are worth a total of 100 points; the maximum score for each criterion is noted in parentheses.

(a) Significance. (Maximum 30 points)

(1) The Secretary considers the significance of the proposed project.

(2) In determining the significance of the proposed project, the Secretary considers the following factors:

(i) The extent to which the proposed project is innovative and likely to be more effective compared to other efforts to address a similar problem. (Up to 15 points)

(ii) The importance or magnitude of the results or outcomes likely to be attained by the proposed project, especially contributions toward improving teaching practice and student learning and achievement. (Up to 15 points)

(b) Quality of the project design. (Maximum 45 points)

The Secretary considers the quality of the design of the proposed project. In determining the quality of the design of the proposed project, the Secretary considers the following factors:

(1) The extent to which the proposed project will integrate with or build on similar or related efforts to improve relevant outcomes (as defined in this notice), using existing funding streams from other programs or policies supported by community, State, and Federal resources. (up to 15 points)

(2) The extent to which the design for implementing and evaluating the proposed project will result in information to guide possible replication of project activities or strategies, including valid and reliable information about the effectiveness of the approach or strategies employed by the project. (up to 15 points)

(3) The extent to which the proposed development efforts include adequate quality controls, continuous improvement efforts, and as appropriate, repeated testing of products. (up to 15 points)

(c) Quality of the management plan. (Maximum to 10 points)

The Secretary considers the quality of the management plan for the proposed project. In determining the quality of the management plan for the proposed project, the Secretary considers the adequacy of the management plan to achieve the objectives of the proposed project on time and within budget, including clearly defined responsibilities, timelines, and milestones for accomplishing project tasks.

(d) Quality of the project evaluation or other evidence building. (Maximum to 15 points)

The Secretary considers the quality of the evaluation to be conducted of the proposed project. In determining the quality of the evaluation, the Secretary considers the following factors:

(1) The extent to which the methods of evaluation are thorough, feasible, and appropriate to the goals, objectives, and outcomes of the proposed project. (up to 5 points)

(2) The extent to which the methods of evaluation or other evidence-building will provide performance feedback and provide formative, diagnostic, or interim data that is a periodic assessment of progress toward achieving intended outcomes. (up to 5 points)

(3) The extent to which the evaluation will provide guidance about effective strategies suitable for replication or testing and potential implementation in other settings. (up to 5 points).

2. Review and Selection Process: We remind potential applicants that in reviewing applications in any discretionary grant competition, the Secretary may consider, under 34 CFR 75.217, information outside the rank order of applications, including: the information in each application; and any other information—

(1) Relevant to a criterion, priority, or other requirement that applies to the selection of applications for new grants;

(2) Concerning the applicant's performance and use of funds under a previous award under any Department program; and

(3) Concerning the applicant's failure under any Department program to submit a performance report or its submission of a performance report of unacceptable quality.

Before making awards, Department staff will screen applications submitted in accordance with the requirements in this notice to determine whether applications have met eligibility and other requirements, including whether an application may fail to meet the “General Terms and Conditions” applicable to awarded funds referenced elsewhere within this notice. This screening process may occur at various stages of the review and selection process. Applicants that are determined to be ineligible will not receive a grant, regardless of the whether the application was included in the peer review process. Applications not selected for funding will be informed of the Secretary's decision in accordance with 34 CFR 75.218.

Peer reviewers will read, prepare a written evaluation of, and score the assigned applications, using the selection criteria provided in this notice.

In the event there are two or more applications with the same final score within the same Absolute Priority, and there are insufficient funds to fully support each of these applications, the Department will apply the following procedure to determine which application or applications will receive an award:

First Tiebreaker: The first tiebreaker will be the highest average score for the selection criterion “Quality of the Project Design”. If a tie remains, the second tiebreaker will be utilized.

Second Tiebreaker: The second tiebreaker will be the highest average score for the selection criterion “Significance.” If a tie remains, the third tiebreaker will be utilized.

Third Tiebreaker: The third tiebreaker will be the applicant that promotes equitable geographic distribution of FIPSE-SP grantees.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $350,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. General terms and conditions: If you are awarded a grant under this competition, you must ensure and may be required to demonstrate that Federal funds will not be used under this project in any manner that violates the United States Constitution, Title VI or Title VII of the Civil Rights Act of 1964 (42 U.S.C. 2000d et seq. or 42 U.S.C. 2000e et seq.), Title IX of the Education Amendments of 1972 (20 U.S.C. 1681 et seq.), section 504 of the Rehabilitation Act (29 U.S.C. 794), the Age Discrimination Act of 1975 (42 U.S.C. 6101 et seq.), Title II of the Americans with Disabilities Act of 1990 (42 U.S.C. 12131 et seq.), the Boy Scouts of America Equal Access Act of 2001 (20 U.S.C. 7905), section 117 of the Higher Education Act of 1965, as amended (20 U.S.C. 1011f), or other applicable Federal law. To the extent that a grantee uses grant funds for such unallowable activities, the Department may take appropriate enforcement action including under section 451 of GEPA, including the potential recovery of funds under section 452 of GEPA, or may pursue termination under 2 CFR 200.340. The Grant Award Notification document accompanying your award may contain further terms and conditions, as necessary to ensure grantee compliance with applicable laws, regulations, and administrative priorities.

2. Award Notices: If your application is successful, we notify your U.S. Representative and U.S. Senators and send you a Grant Award Notification (GAN); or we may send you an email containing a link to access an electronic version of your GAN. We may also notify you informally.

If your application is not evaluated or not selected for funding, we notify you.

3. Open Licensing Requirements: Unless an exception applies, if you are awarded a grant under this competition, you will be required to openly license to the public grant deliverables created in whole, or in part, with Department grant funds and that constitute new copyrightable works. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purpose of Department reporting under 34 CFR 75.110, the Department has established a set of performance measures for this competition:

Project-Specific Performance Measures: Applicants must propose project-specific performance measures and performance targets (both as defined in this notice) consistent with the objectives of the proposed project. Applications must provide the following information as directed under 34 CFR 75.110(b) and (c):

(1) Project-specific performance measures. How each proposed project-specific performance measure would: accurately measure the performance of the project; and be used to inform continuous improvement of the project.

(2) Baseline (as defined in this notice) data. (i) Why each proposed baseline is valid and reliable, including an assessment of the quality data used to establish the baseline; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

All grantees must submit an annual performance report with information that is responsive to these performance measures.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application, or whether the continuation of the project is in the best interest of the Federal Government.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. You may also access documents of the Department published in the Federal Register by using the article search feature at www.federalregister.gov.

David Barker,
Assistant Secretary, Office of Postsecondary Education, Department of Education.

[FR Doc. 2025-19843 Filed 11-10-25; 8:45 am]

BILLING CODE 4000-01-P